DEPARTMENT OF DEFENSE

Office of the Secretary

[Docket ID: DoD-2024-OS-0124]

Submission for OMB Review; Comment Request

AGENCY: United States Transportation Command (USTRANSCOM), Department of Defense (DoD).

ACTION: 30-Day information collection notice.

SUMMARY: The DoD has submitted to the Office of Management and Budget (OMB) for clearance the following proposal for collection of information under the provisions of the Paperwork Reduction Act.

DATES: Consideration will be given to all comments received by August 25, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Tender of Service for Personal Property Household Goods and Unaccompanied Baggage Shipments; DD Form 619; OMB Control Number 0704-0531.

Type of Request: Extension.

Number of Respondents: 833.

Responses per Respondent: 288.

Annual Responses: 239,904.

Average Burden per Response: 3 minutes.

Annual Burden Hours: 11,995.

Needs and Uses: The information collection requirement is necessary for private sector commercial transportation service providers, who are under contract with the DoD for shipment/storage of personal property, to identify ownership, and to schedule pickup and delivery of personal property.

Affected Public: Business or other for-profit.

Frequency: On occasion.

Respondent's Obligation: Voluntary.

DoD Clearance Officer: Mr. Reginald Lucas.

Dated: July 22, 2025.
Aaron T. Siegel,
Alternate OSD Federal Register Liaison Officer, Department of Defense.

[FR Doc. 2025-14009 Filed 7-24-25; 8:45 am]

BILLING CODE 6001-FR-P